DEPARTMENT OF AGRICULTURE

Office of the Secretary

Notice of Request for Extension or Renewal of a Currently Approved Information Collection

AGENCY: U.S. Department of Agriculture.

ACTION: Notice; correction.

SUMMARY: In accordance with the Paperwork Reduction Act of 1995 (44 U.S.C. Chapter 35), this notice announces the intention of the Office of the Assistant Secretary for Civil Rights to request a renewal to a currently approved information collection for race, ethnicity, and gender along with comments.

DATES: Comments on this notice must be received by May 20, 2014, to be assured of consideration.

Additional Information Or Comments: Contact Anna G. Stroman, Chief, Policy Division, by mail at Office of the Assistant Secretary for Civil Rights, 1400 Independence Avenue SW., Washington, DC 20250.

SUPPLEMENTARY INFORMATION: Title: Race, Ethnicity and Gender Data Collection.

OMB Number: OMB No. 0503-0019 Expiration.

Date of Approval: March 31, 2014.

In the Federal Register of March 21, 2014, in FR Doc 2014-06196 on page 15721, make the following correction:

Under Supplementary Information: Change the OMB Number From OMB No. 0505-0019 to OMB No. 0503-0019

Joe Leonard, Jr.,
Assistant Secretary for Civil Rights.

[FR Doc. 2014-07626 Filed 4-4-14; 8:45 am]

BILLING CODE P